DEPARTMENT OF ENERGY

Federal Energy Regulatory Commission

[Docket No. ER01-1800-001, et al.]

Pierce Power LLC, et al.; Electric Rate and Corporate Regulation Filings

July 9, 2001.

Take notice that the following filings have been made with the Commission:

1. Pierce Power LLC

[Docket No. ER01-1800-001]

Take notice that on July 3, 2001, Pierce Power LLC tendered for filing its FERC Electric Tariff, Original Volume No. 1, Substitute Original Sheet No. 1, in compliance with the Commission's June 8, 2001, Order in the above-referenced Docket.

Comment date: July 24, 2001, in accordance with Standard Paragraph E at the end of this notice.

2. Ameren Services Company

[Docket No. ER01-2437-000]

Take notice that on July 3, 2001, Ameren Services Company (AMS) submitted a request to withdraw the filing of the Network Integration Transmission Service Agreement, dated June 1, 2001 for EnerStar Power Corporation and AMS and terminate this Docket.

Comment date: July 24, 2001, in accordance with Standard Paragraph E at the end of this notice.

3. Allegheny Energy Service Corporation on Behalf of Allegheny Energy Supply Company, LLC

[Docket No. ER01-2442-000]

Take notice that on July 3, 2001, Allegheny Energy Service Corporation on Behalf of Allegheny Energy Supply Company, LLC filed a request to withdraw Market Rate Tariff Service Agreement No. 136 filed at the above Docket.

Comment date: July 24, 2001, in accordance with Standard Paragraph E at the end of this notice.

4. Wisconsin Public Service Corporation

[Docket No. ER01-2369-001]

Take notice that, on July 3, 2001, Wisconsin Public Service Corporation (WPSC) filed an amended, fully-executed long-term service agreement with Duke Energy Lee, LLC (Duke) under WPSC's market-based rate tariff, FERC Electric Tariff, Third Revised Volume No. 10 (Tariff). This service agreement replaces the unexecuted service agreement filed on June 21, 2001 in this Docket. WPSC requests that the Commission waive its notice of filing requirements to allow the service agreement to become effective on May 22, 2001.

A copy of the filing was served upon all parties on the Commission's official service list.

Comment date: July 24, 2001, in accordance with Standard Paragraph E at the end of this notice.

5. Allegheny Energy Service Corporation on Behalf of Allegheny Energy Supply Company, LLC

[Docket No. ER01-2376-000]

Take notice that on July 3, 2001, Allegheny Energy Service Corporation on Behalf of Allegheny Energy Supply Company, LLC filed a request to withdraw Market Rate Tariff Service Agreement No. 134 filed at the above Docket.

Comment date: July 24, 2001, in accordance with Standard Paragraph E at the end of this notice.

6. Allegheny Energy Service Corporation on Behalf of Allegheny Energy Supply Company, LLC

[Docket No. ER01-2377-000]

Take notice that on July 3, 2001, Allegheny Energy Service Corporation on Behalf of Allegheny Energy Supply Company, LLC filed a request to withdraw Market Rate Tariff Service Agreement No. 133 filed at the above Docket.

Comment date: July 24, 2001, in accordance with Standard Paragraph E at the end of this notice.

7. Allegheny Energy Service Corporation on Behalf of Allegheny Energy Supply Company, LLC

[Docket No. ER01-2378-000]

Take notice that on July 3, 2001, Allegheny Energy Service Corporation on Behalf of Allegheny Energy Supply Company, LLC filed a request to withdraw Market Rate Tariff Service Agreement No. 131 filed at the above Docket.

Comment date: July 24, 2001, in accordance with Standard Paragraph E at the end of this notice.

8. Allegheny Energy Service Corporation on Behalf of Allegheny Energy Supply Company, LLC

[Docket No. ER01-2379-000]

Take notice that on July 3, 2001, Allegheny Energy Service Corporation on Behalf of Allegheny Energy Supply Company, LLC filed a request to withdraw Market Rate Tariff Service Agreement No. 132 filed at the above Docket.

Comment date: July 24, 2001, in accordance with Standard Paragraph E at the end of this notice.

9. Allegheny Energy Service Corporation on Behalf of Allegheny Energy Supply Company, LLC

[Docket No. ER01-2381-000]

Take notice that on July 3, 2001, Allegheny Energy Service Corporation on Behalf of Allegheny Energy Supply Company, LLC filed a request to withdraw Market Rate Tariff Service Agreement No. 129 filed at the above Docket.

Comment date: July 24, 2001, in accordance with Standard Paragraph E at the end of this notice.

10. Allegheny Energy Service Corporation on Behalf of Allegheny Energy Supply Company, LLC

[Docket No. ER01-2382-000]

Take notice that on July 3, 2001, Allegheny Energy Service Corporation on behalf of Allegheny Energy Supply Company, LLC filed a request to withdraw Market Rate Tariff Service Agreement No. 127 filed at the above docket.

Comment date: July 24, 2001, in accordance with Standard Paragraph E at the end of this notice.

11. Allegheny Energy Service Corporation on Behalf of Allegheny Energy Supply Company, LLC

[Docket No. ER01-2383-000]

Take notice that on July 3, 2001, Allegheny Energy Service Corporation on behalf of Allegheny Energy Supply Company, LLC filed a request to withdraw Market Rate Tariff Service Agreement No. 128 filed at the above docket.

Comment date: July 24, 2001, in accordance with Standard Paragraph E at the end of this notice.

12. Northern Indiana Public Service Company

[Docket No. ER01-2496-000]

Take notice that on July 3, 2001, Northern Indiana Public Service Company tendered for filing an executed Standard Transmission Service Agreement for Non-Firm Point-to-Point Transmission Service between Northern Indiana Public Service Company and Axia Energy, LP (Axia). Copies of this filing have been sent to Axia Energy, LP, the Indiana Utility Regulatory Commission, and the Indiana Office of Utility Consumer Counselor

Under the Transmission Service Agreement, Northern Indiana Public Service Company will provide Non-Firm Point-to-Point Transmission Service to Axia pursuant to the Transmission Service Tariff filed by Northern Indiana Public Service Company in Docket No. OA96-47-000 and allowed to become effective by the Commission. Northern Indiana Public Service Company has requested that the Service Agreement be allowed to become effective as of July 5, 2001.

Comment date: July 24, 2001, in accordance with Standard Paragraph E at the end of this notice.

13. Potomac Electric Power Company

[Docket No. ER01-2497-000]

Take notice that on July 3, 2001, Potomac Electric Power Company (Pepco) tendered for filing a service agreement pursuant to Pepco FERC Electric Tariff, Original Volume No. 5, entered into between Pepco and: Allegheny Energy Supply Company, LLC. An effective date of June 28, 2001 for this service agreement, with waiver of notice, is requested.

Comment date: July 24, 2001, in accordance with Standard Paragraph E at the end of this notice.

14. Citizens Communications Company

[Docket No. ER01-2498-000]

Take notice that on July 2, 2001, in compliance with the Commission's Order in Arizona Independent Scheduling Administrator Association, Citizens Communications Company (Citizens) filed an Open Access Transmission Tariff (OATT) for its Arizona Electric Division (AED).

Citizens has requested an effective date of September 1, 2001 for the common service provisions and the point-to-point service provisions of its OATT. For the retail network integration transmission service provisions, Citizens requests an effective date that is coincident with the implementation date of a rule or order of the Arizona Corporation Commission (ACC) that directs AED to provide unbundled retail transmission service.

A copy of this filing was served on Arizona Independent Scheduling Administrator Association and the ACC. In addition, a copy is available for inspection at Citizens' AED's offices during regular business hours.

Comment date: July 23, 2001, in accordance with Standard Paragraph E at the end of this notice.

15. CinCap IX, LLC

[Docket No. EG01-213-000]

On July 6, 2001, CinCap IX, LLC, 139 East Fourth Street, Cincinnati, Ohio 45202, filed with the Federal Energy Regulatory Commission an amendment to its application for determination of exempt wholesale generator status pursuant to Section 32(a)(1) of the Public Utility Holding Company Act of 1935, as amended. The applicant is a limited liability company that will be engaged directly or indirectly and exclusively in the business of developing and ultimately owning and/or operating an approximately 88 megawatt gas-fired electric generating facility located in Erlanger, Kenton County, Kentucky and selling electric energy at wholesale.

Comment date: July 27, 2001, in accordance with Standard Paragraph E at the end of this notice. The Commission will limit its consideration of comments to those that concern the adequacy or accuracy of the application.

16. IDACORP Energy LP

[Docket No. ER01-2499-000]

Take notice that on July 3, 2001, IDACORP Energy LP tendered for filing with the Federal Energy Regulatory Commission Service Agreements under IDACORP Energy LP's FERC Electric Tariff No. 1, Market Rate Power Sales Tariff.

Comment date: July 24, 2001, in accordance with Standard Paragraph E at the end of this notice.

17. Ameren Energy, Inc. on behalf of Union Electric Company d/b/a AmerenUE, Ameren Energy Marketing Company and Ameren Energy Generating Company

[Docket No. ER01-2500-000]

Take notice that on July 3, 2001, Ameren Energy, Inc. (Ameren Energy), on behalf of Union Electric Company d/b/a AmerenUE, Ameren Energy Market Company, and Ameren Energy Generating Company (collectively, the Ameren Parties), pursuant to section 205 of the Federal Power Act, 16 U.S.C. 824d, and the market rate authority granted to the Ameren Parties, submitted for filing a pro forma umbrella power sales service agreement under the Ameren Parties' market rate authorizations. Ameren Energy seeks Commission acceptance of this form of service agreement for use by Ameren Energy on behalf of the Ameren Parties effective July 4, 2001.

Copies of this filing were served on the public utilities commissions of Illinois and Missouri.

Comment date: July 24, 2001, in accordance with Standard Paragraph E at the end of this notice.

18. PacifiCorp

[Docket No. ER01-2501-000]

Take notice that PacifiCorp, July 3, 2001, tendered for filing Amendatory Agreement No. 5, to the Pacific Northwest Coordination Agreement dated September 15, 1964.

PacifiCorp states that Amendatory Agreement No. 5 modifies the primary agreement to change agreement terms and conditions regarding: the City of Tacoma's withdrawal of its west-side hydroelectric projects from the primary agreement; the rate charged for interchange energy transactions; and the methods of accounting for interchange energy transactions.

Comment date: July 24, 2001, in accordance with Standard Paragraph E at the end of this notice.

19. Xcel Energy Services Inc.

[Docket ER01-2502-000]

Take notice that on July 3, 2001 Xcel Energy Services Inc. (XES), on behalf of Public Service Company of Colorado (Public Service) tendered for filing an executed umbrella service agreement between Public Service and Idaho Power Company under Public Service's Rate Schedule for the Sale, Assignment, or Transfer of Transmission Rights.

Comment date: July 24, 2001, in accordance with Standard Paragraph E at the end of this notice.

20. TXU Electric Company and TXU SESCO Company

[Docket No. ER01-2503-000]

Take notice that TXU Electric Company and TXU SESCO Company (TXU) on July 3, 2001, tendered for filing an amendment to the Remote Control Area Load Agreement for the Tex-La Load (Agreement) between TXU Electric Company and West Texas Utilities Company (WTU) under TXU's FERC Electric Service Tariff, Volume No. 2. The amendment to the Agreement adds a new point of delivery. TXU seeks an effective date of April 20, 2001 for this filing and, accordingly, seeks waiver of the Commission's notice requirements.

Copies of the filing have been served on WTU, Tex-La Electric Cooperative of Texas, Inc., and the Public Utility Commission of Texas.

Comment date: July 24, 2001, in accordance with Standard Paragraph E at the end of this notice.

21. Allegheny Energy Service Corporation, on Behalf of Monongahela Power Company, The Potomac Edison Company, and West Penn Power Company (Allegheny Power)

[Docket No. ER01-2504-000]

Take notice that on July 3, 2001, Allegheny Energy Service Corporation on behalf of Monongahela Power Company, The Potomac Edison Company, and West Penn Power Company (AlleghenyPower), filed an Interconnection Agreement (Agreement) with Allegheny Energy Supply Company, LLC as Service Agreement No. 358 under Allegheny Power's Open Access Transmission Tariff. The proposed effective date under the Agreement is September 14, 2001.

Copies of the filing have been provided to the Public Utilities Commission of Ohio, the Pennsylvania Public Utility Commission, the Maryland Public Service Commission, the Virginia State Corporation Commission, and the West Virginia Public Service Commission.

Comment date: July 24, 2001, in accordance with Standard Paragraph E at the end of this notice.

22. TXU Electric Company and TXU SESCO Company

[Docket No. ER01-2505-000]

Take notice that TXU Electric Company and TXU SESCO Company (TXU) on July 3, 2001, tendered for filing amendments to the Transmission Service Agreement for Planned Service and Unplanned Service for Tex-La Electric Cooperative of Texas, Inc. between TXU and Tex-La Electric Cooperative of Texas, Inc. (Tex-La) and the Interconnection Agreement between TXU and Tex-La (collectively, the Agreements) under TXU's FERC Electric Service Tariff, Volume No. 2. The amendments to the Agreements add a new point of delivery. TXU seeks an effective date of March 30, 2001 for this filing and, accordingly, seeks waiver of the Commission's notice requirements.

Copies of the filing have been served on Tex-La and the Public Utility Commission of Texas.

Comment date: July 24, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-17668 Filed 7-13-01; 8:45 am]

BILLING CODE 6717-01-P